DEPARTMENT OF JUSTICE

Antitrust Division

Notice Pursuant to the National Cooperative Research and Production Act of 1993—Southwest Research Institute (“SwRI”): Clean Diesel III

Notice is hereby given that, on February 9, 2000, pursuant to section 6(a) of the National Cooperative Research and Production Act of 1993, 15 U.S.C. 4301 et seq. (“the Act”), Southwest Research Institute (“SwRI”) has filed written notifications simultaneously with the Attorney General and the Federal Trade Commission disclosing changes in its membership status. The notifications were filed for the purpose of extending the Act's provisions limiting the recovery of antitrust plaintiffs to actual damages under specified circumstances. Specifically, Pure Energy Corporation, New York, NY has been added as a party to this venture.

No other changes have been made in either the membership or planned activity of the group research project. Membership in this group research project remains open, and Southwest Research Institute (“SwRI”) intends to file additional written notification disclosing all changes in membership.

On January 12, 2000, Southwest Research Institute (“SwRI”) filed its original notification pursuant to Section 6(a) of the Act. A notice has not yet been published in the Federal Register.

Constance K. Robinson,
Director of Operations, Antitrust Division.

[FR Doc. 00-15596 Filed 6-20-00; 8:45 am]

BILLING CODE 4410-11-M